DEPARTMENT OF LABOR

Employment and Training Administration

[TA-W-70,123]

Electrolux Home Products, Inc., Electrolux Major Appliances Division Including On-Site Leased Workers From Per Mar Security and Nussbaum Transportation; Webster City, IA; Amended Certification Regarding Eligibility To Apply for Worker Adjustment Assistance

In accordance with Section 223 of the Trade Act of 1974, as amended (“Act”), 19 U.S.C. 2273, the Department of Labor issued a Certification of Eligibility to Apply for Worker Adjustment Assistance on June 25, 2009, applicable to workers of Electrolux Home Products, Inc., Electrolux Major Appliances Division, Webster City, Iowa. The workers produce laundry equipment. The notice as published in the Federal Register on August 19, 2009 (74 FR 41935). The notice was amended on January 21, 2011 to include on-site leased workers from Per Mar Security. The notice was published in the Federal Register on February 2, 2011 (76 FR 5832-5833).

At the request of the State agency, the Department reviewed the certification for workers of the subject firm. The company reports that workers leased from Nussbaum Transportation were employed on-site at the Webster City, Iowa location of Electrolux Home Products, Inc., Electrolux Major Appliances Division. The Department has determined that these workers were sufficiently under the control of Electrolux Home Products, Inc., Electrolux Major Appliances Division to be considered leased workers.

Based on these findings, the Department is amending this certification to include workers leased from Nussbaum Transportation working on-site at the Webster City, Iowa location of Electrolux Home Products, Inc., Electrolux Major Appliances Division.

The amended notice applicable to TA-W-70,123 is hereby issued as follows:

All workers of Electrolux Home Products, Inc., Electrolux Major Appliances Division, including on-site leased workers from Per Mar Security and Nussbaum Transportation, Webster City, Iowa, who became totally or partially separated from employment on or after May 18, 2008, through June 25, 2011, and all workers in the group threatened with total or partial separation from employment on the date of certification through two years from the date of certification, are eligible to apply for adjustment assistance under Chapter 2 of Title II of the Trade Act of 1974, as amended.

Signed at Washington, DC, this 18th day of February 2011.
Elliott S. Kushner,
Certifying Officer, Office of Trade Adjustment Assistance.

[FR Doc. 2011-5926 Filed 3-14-11; 8:45 am]

BILLING CODE 4510-FN-P